DEPARTMENT OF HEALTH AND HUMAN SERVICES

Centers for Disease Control and Prevention

Notice of Award of a Single Source Cooperative Agreement To Fund White Mountain Apache Tribe (WMAT), San Carlos Apache Tribe (SCAT), Gila River Indian Community (GRIC), Navajo Nation (NN), Hopi Tribe and Tohono O'odham Nation (TON)

AGENCY: Centers for Disease Control and Prevention (CDC), Department of Health and Human Services (HHS).

ACTION: Notice.

SUMMARY: The Centers for Disease Control and Prevention (CDC), located within the Department of Health and Human Services (HHS), announces 6 separate awards to fund White Mountain Apache Tribe (WMAT), San Carlos Apache Tribe (SCAT), Gila River Indian Community (GRIC), Navajo Nation (NN), Hopi Tribe and Tohono O'odham Nation (TON). Funding amounts will be determined on disease burden during 2010-2020. The total 5 year period amount for the (6) recipients is $1,800,000.00 The awards will address Rocky Mountain Spotted Fever (RMSF) prevention activities, including but not limited to vector control, outreach, and education, and RMSF prevention support services.

DATES: The period for these awards will be September 1st, 2024, through August 31st, 2029.

FOR FURTHER INFORMATION CONTACT: Katherine Ficalora, (Division of Vector-Borne Diseases, National Center for Emerging and Zoonotic Infectious Diseases, Centers for Disease Control and Prevention, 3156 Rampart Road, Fort Collins, CO. Telephone: (970) 221-6425, Email: kzx8@cdc.gov.

SUPPLEMENTARY INFORMATION: The single source award will improve dissemination of proven RMSF prevention practices to AI communities in Arizona; Increase community understanding of RMSF and how it can be prevented; Conduct an evaluation of current RMSF programs; Increase the availability and utilization of public health resources such as vector control and animal control to support sustainable RMSF prevention.

White Mountain Apache Tribe (WMAT), San Carlos Apache Tribe (SCAT), Gila River Indian Community (GRIC), Navajo Nation (NN), Hopi Tribe and Tohono O'odham Nation (TON) are in a unique position to conduct this work, as they are experiencing epidemic levels of RMSF not seen anywhere else in the country, transmitted by the brown dog tick.

Summary of the Award

Recipient: White Mountain Apache Tribe (WMAT), San Carlos Apache Tribe (SCAT), Gila River Indian Community (GRIC), Navajo Nation (NN), Hopi Tribe and Tohono O'odham Nation (TON)

Purpose of the Award: The purpose of these awards is to increase dissemination or process improvement of proven interventions for RMSF prevention efforts, develop and evaluate of locally minded RMSF communications plan, increase availability of RMSF support services such as vector control and animal control to strengthen sustainable RMSF prevention programs.

• Amount of Award: Initial awards may be weighted based on disease burden during 2010-2020:

—Tribes reporting zero cases are ineligible for this funding

—Tribes reporting 1-10 cases of RMSF are eligible for $10,000-$30,000

—Tribes reporting 11-30 cases of RMSF are eligible for $20,000-$60,000

—Tribes reporting >30 cases are eligible for $50,000-$300,000”

Expected total funding of approximately $1,800,000 for 5-year period of performance, subject to availability of funds.

Authority: This program is authorized under the Public Health Service Act section 317(k)(2), as amended (42 U.S.C. 247(b)(k)(2)).

Period of Performance: September 1, 2024, through August 31, 2029.

Dated: March 19, 2024.
Jamie Legier,
Acting Director, Office of Grants Services, Centers for Disease Control and Prevention.

[FR Doc. 2024-06234 Filed 3-22-24; 8:45 am]

BILLING CODE 4163-18-P